DEPARTMENT OF STATE

[Public Notice: 5700]

30-Day Notice of Proposed Information Collection: DS-2028, Overseas Schools Grant Status Report, OMB 1405-0033

ACTION: Notice of request for public comment and submission to OMB of proposed collection of information.

SUMMARY: The Department of State has submitted the following information collection request to the Office of Management and Budget (OMB) for approval in accordance with the Paperwork Reduction Act of 1995.

• Title of Information Collection: Overseas Schools Grant Status Report.

• OMB Control Number: OMB 1405-0033.

• Type of Request: Extension of a Currently Approved Collection.

• Originating Office: Bureau of Administration, A/OPR/OS.

• Form Number: DS-2028.

• Respondents: overseas school grantees.

• Estimated Number of Respondents: 185.

• Estimated Number of Responses: 185.

• Average Hours Per Response: 15 minutes.

• Total Estimated Burden: 46 hours.

• Frequency: annually.

• Obligation to Respond: required to obtain or retain a benefit.

DATES: Submit comments to the Office of Management and Budget (OMB) for up to 30 days from February 26, 2007.

ADDRESSES: Direct comments and questions to Katherine Astrich, the Department of State Desk Officer in the Office of Information and Regulatory Affairs at the Office of Management and Budget (OMB), who may be reached at 202-395-4718. You may submit comments by any of the following methods:

• E-mail: kastrich@omb.eop.gov. You must include the DS form number, information collection title, and OMB control number in the subject line of your message.

• Mail (paper, disk, or CD-ROM submissions): Office of Information and Regulatory Affairs, Office of Management and Budget, 725 17th Street, NW., Washington, DC 20503.

• Fax: 202-395-6974.

FOR FURTHER INFORMATION CONTACT: You may obtain copies of the proposed information collection and supporting documents from Keith Miller, Department of State, Office of Overseas Schools, A/OPR/OS, Room H328, SA-1, Washington, DC 20522-0132, who may be reached on 202-261-8200 or millerkd2@state.gov.

SUPPLEMENTARY INFORMATION: We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond.

Abstract of proposed collection:

The Office of Overseas Schools of the Department of State (A/OPR/OS) is responsible for determining that adequate educational opportunities exist at Foreign Service Posts for dependents of U.S. Government personnel stationed abroad, and for assisting American-sponsored overseas schools to demonstrate U.S. educational philosophy and practice. The information gathered provides the technical and professional staff of A/OPR/OS the means by which obligations, expenditures and reimbursements of the grant funds are monitored to ensure the grantee is in compliance with the terms of the grant.

Methodology:

Information is collected via electronic and paper submission.

Dated: February 7, 2007.
Peggy Philbin,
Executive Director, Bureau of Administration, Department of State.

[FR Doc. E7-3212 Filed 2-23-07; 8:45 am]

BILLING CODE 4710-24-P